INTERNATIONAL TRADE COMMISSION

[Investigation No. 731-TA-1313 (Review)]

1,1,1,2-Tetrafluoroethane (R-134a) From China

Determination

On the basis of the record ¹ developed in the subject five-year review, the United States International Trade Commission (“Commission”) determines, pursuant to the Tariff Act of 1930 (“the Act”), that revocation of the antidumping duty order on 1,1,1,2-tetrafluoroethane (R-134a) from China would be likely to lead to continuation or recurrence of material injury to an industry in the United States within a reasonably foreseeable time.

¹ The record is defined in § 207.2(f) of the Commission's Rules of Practice and Procedure (19 CFR 207.2(f)).

Background

The Commission instituted this review on March 1, 2022 (87 FR 11475) and determined on June 6, 2022, that it would conduct an expedited review (87 FR 57517, September 20, 2022).

The Commission made this determination pursuant to section 751(c) of the Act (19 U.S.C. 1675(c)). It completed and filed its determination in this review on October 20, 2022. The views of the Commission are contained in USITC Publication 5378 (October 2022), entitled 1,1,1,2-Tetrafluoroethane (R-134a) from China: Investigation No. 731-TA-1313 (Review).

By order of the Commission.
Issued: October 20, 2022.
Katherine Hiner,
Acting Secretary to the Commission.

[FR Doc. 2022-23205 Filed 10-24-22; 8:45 am]

BILLING CODE 7020-02-P